DEPARTMENT OF COMMERCE

International Trade Administration

[A-549-817]

Notice of Final Determination of Sales at Less Than Fair Value; Certain Hot-Rolled Carbon Steel Flat Products From Thailand

AGENCY: Import Administration, International Trade Administration, Department of Commerce.

EFFECTIVE DATE: September 28, 2001.

FOR FURTHER INFORMATION CONTACT: Angelica Mendoza or Nancy Decker at (202) 482-3019 or (202) 482-0196, respectively; Antidumping and Countervailing Duty Enforcement Group III, Import Administration, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the Act) by the Uruguay Round Agreements Act. In addition, unless otherwise indicated, all citations to the Department of Commerce (Department) regulations are to the regulations at 19 CFR part 351 (April 2000).

Final Determination

We determine that certain hot-rolled carbon steel flat products (HR) from Thailand are being sold, or are likely to be sold, in the United States at less than fair value (LTFV), as provided in section 735 of the Act. The estimated margins of sales at LTFV are shown in the “Suspension of Liquidation” section of this notice.

Case History

We published in the Federal Register the preliminary determination in this investigation on May 3, 2001. See Notice of Preliminary Determination of Sales at Less Than Fair Value: Certain Hot-Rolled Carbon Steel Flat Products from Thailand, 66 FR 22199 (May 3, 2001) (Preliminary Determination). Since the publication of the Preliminary Determination the following events have occurred.

On May 1, 2001, Sahaviriya Steel Industries Public Co., Ltd. (SSI), the sole responding company in this investigation, requested that the Department postpone its final determination until not later than 135 days after the date of the publication of the preliminary determination in the Federal Register and requested an extension of the provisional measures. On June 4, 2001, we extended the final determination until not later than 135 days after the publication of the preliminary determination in the Federal Register. See Notice of Postponement of Final Antidumping Duty Determination: Certain Hot Rolled Carbon Steel Flat Products from Thailand and Notice of Postponement of Final Countervailing Duty Determinations: Certain Hot Rolled Carbon Steel Flat Products from Thailand and South Africa, 66 FR 31888 (June 13, 2001).

The Department verified sections A-C of SSI's responses from May 14, 2001 through May 21, 2001, at SSI's administrative headquarters in Bangkok, Thailand and at its production facility in Bangsaphan, Thailand. The Department also verified section D of SSI's response from May 28, 2001 through June 1, 2001, at SSI's administrative headquarters. See Memorandum For the File; “Sales Verification of Sections A-C Questionnaire Responses—SSI”, July 11, 2001 (Sales Verification Report) and Memorandum to Neal Halper, Director, Office of Accounting; “Verification of the Cost of Production and Constructed Value Data-SSI,” July 10, 2001 (Cost Verification Report). Public versions of these, and all other Departmental memoranda referred to herein, are on file in the Central Records Unit, room B-099 of the main Commerce building.

On May 23, 2001, some petitioners (Bethlehem Steel Corporation, LTV Steel Company, Inc., National Steel Corporation, and United States Steel LLC (formerly known as “U.S. Steel Group (a Unit of USX Corporation)”) requested a public hearing. The remaining petitioners (IPSCO Steel Inc., Gallatin Steel Company, Nucor Corporation, Steel Dynamics, Inc., Weirton Steel Corporation, and the Independent Steelworkers Union) also requested a public hearing on June 1, 2001. In addition, on June 4, 2001, SSI requested a public hearing. On July 24, 2001 the petitioners which first requested a hearing and SSI withdrew their requests for a public hearing. On July 26, 2001, the remaining petitioners withdrew their request for a public hearing. On July 25, 2001, we received case briefs from SSI and petitioners. We received rebuttal briefs from all parties on July 30, 2001.

Although the deadline for this determination was originally September 17, 2001, in light of the events of September 11, 2001 and the subsequent closure of the Federal Government for reasons of security, the timeframe for issuing this determination has been extended by four days.

Period of Investigation

The period of investigation (POI) is October 1, 1999 through September 30, 2000.

Analysis of Comments Received

All issues raised in the case and rebuttal briefs by parties to this investigation are addressed in the “Issues and Decision Memorandum” (Decision Memorandum) from Joseph A. Spetrini, Deputy Assistant Secretary, Import Administration, to Faryar Shirzad, Assistant Secretary for Import Administration, dated September 21, 2001, which is hereby adopted by this notice. A list of the issues which parties have raised and to which we have responded, all of which are in the Decision Memorandum, is attached to this notice as an Appendix. Parties can find a complete discussion of all issues raised in this review and the corresponding recommendations in this public memorandum which is on file in B-099.

In addition, a complete version of the Decision Memorandum can be accessed directly on the World Wide Web at www.ia.ita.doc.gov/frn. The paper copy and electronic version of the Decision Memorandum are identical in content.

Scope of Investigation

For purposes of this investigation, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this investigation. Specifically included within the scope of this investigation are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this investigation, regardless of definitions in the Harmonized Tariff Schedule of the United States (HTS), are products in which: (i) iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this investigation unless otherwise excluded. The following products, by way of example, are outside or specifically excluded from the scope of this investigation:

• Alloy hot-rolled steel products in which at least one of the chemical elements exceeds those listed above (including, e.g., ASTM specifications A543, A387, A514, A517, A506).

• Society of Automotive Engineers (SAE)/American Iron and Steel Institute (AISI) grades of series 2300 and higher.

• Ball bearings steels, as defined in the HTS.

• Tool steels, as defined in the HTS.

• Silico-manganese (as defined in the HTS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTS.

The merchandise subject to this investigation is classified in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by this investigation, including: Vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and U.S. Customs purposes, the written description of the merchandise under investigation is dispositive.

Changes Since the Preliminary Determination

Based on our analysis of comments received and findings at verification, we have made certain changes in the margin calculations. These changes are noted in various sections of the Decision Memorandum, accessible in B-099 and on the Web at www.ia.ita.doc.gov/frn.

Use of Facts Available

SSM

In the preliminary determination, the Department determined that the application of total adverse facts available (AFA) was appropriate with respect to Siam Strip Mill Public Co., Ltd. (SSM), a mandatory respondent that failed to respond to the Department's questionnaire. As AFA, the Department applied a margin rate of 20.30 percent, the highest alleged margin based on our recalculation for Thailand in the petition. The interested parties did not object to the use of adverse facts available for SSM, or to the Department's choice of facts available, and no new facts were submitted which would cause the Department to revisit this decision. Therefore, for the reasons set out in the preliminary determination, we have continued to use the highest margin alleged by the petitioner (as recalculated by the Department at initiation) for the purposes of this final determination notice.

SSI

In accordance with section 776 of the Act, we have determined that the use of facts available is appropriate for certain portions of our analysis of SSI. For a discussion of our determination with respect to these matters, see the Decision Memorandum.

Suspension of Liquidation

Pursuant to section 735(c)(1)(B) of the Act, we are instructing Customs to continue to suspend liquidation of all entries of HR products from Thailand that are entered, or withdrawn from warehouse, for consumption on or after May 3, 2001, the date of publication of the Preliminary Determination.

Article VI.5 of the General Agreement on Tariffs and Trade (GATT 1994) provides that “[n]o product * * * shall be subject to both antidumping and countervailing duties to compensate for the same situation of dumping or export subsidization.” This provision is implemented in section 772(c)(1)(C) of the Tariff Act. Since antidumping duties cannot be assessed on the portion of the margin attributed to export subsides there is no reason to require a cash deposit or bond for that amount. The Department has determined in its Final Affirmative Countervailing Duty Determination: Certain Hot-Rolled Carbon Steel Flat Products from Thailand that the product under investigation benefitted from export subsidies. Normally, where the product under investigation is also subject to a concurrent countervailing duty investigation, we instruct the Customs Service to require a cash deposit or posting of a bond equal to the weighted-average amount by which the normal value exceeds the export price, as indicated below, minus the amount determined to constitute a export subsidy. See, e.g., Notice of Antidumping Duty Order: Stainless Steel Wire Rod From Italy, 63 FR 49327 (September 15, 1998). Accordingly, for cash deposit purposes we are subtracting from SSI's cash deposit rate that portion of the rate attributable to the export subsidies found in the countervailing duty investigation involving SSI (i.e., 0.58 percent). We have made the same adjustment to the “All Others”) and SSM cash deposit rate by subtracting the rate attributable to export subsidies found in the countervailing duty investigation of SSI.

We will instruct the Customs Service to require a cash deposit or the posting of a bond for each entry equal to the weighted-average amount by the normal value exceeds the export price, adjusted for the export subsidy rate, as indicated below. These suspension of liquidation instructions will remain in effect until further notice. We determine that the following weighted-average dumping margins exist for the period October 1, 1999 through September 30, 2000:

Export/manufacturer | Bonding/Cash Deposit Rate: Weighted-average margin percent | Bonding/Cash Deposit Rate: (Percent)
SSI | 4.44 | 3.86
SSM | 20.30 | 19.72
All Others | 4.44 | 3.86

ITC Notification

In accordance with section 735(d) of the Act, we have notified the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue an antidumping order directing Customs officials to assess antidumping duties on all imports on the subject merchandise entered, or withdrawn from warehouse for consumption on or after the effective date of the suspension of liquidation.

This determination is issued and published in accordance with sections 735(d) and 777(i)(1) of the Act.

Dated: September 21, 2001.
Faryar Shirzad,
Assistant Secretary for Import Administration.

Appendix I—Issues in Decision Memorandum

1. Depreciation

2. Refund of Import Duties on Slab

3. Cutting Costs

4. Scrap Sales Revenue

5. Use of Full Year 2000 Audited Financial Statements for G&A and Interest Expenses

6. Use of Exchange Rate Losses in Interest Expenses

7. Subsidiaries' G&A Expenses

8. Skin Passing Costs

9. U.S. Date of Sale

10. Indirect Selling Expenses (and G&A) of one of SSI's Affiliated Resellers

11. Home Market Credit Expense of one of SSI's Affiliated Resellers

12. Home Market Movement Expenses—Freight Adjustment of one of SSI's Affiliated Resellers

13. Warranty Expenses—Coding Sales as Prime Versus Non-Prime

14. Weighted Average Margin Calculation—Zeroing Negative Margins

[FR Doc. 01-24411 Filed 9-27-01; 8:45 am]

BILLING CODE 3510-DS-M